DEPARTMENT OF EDUCATION

[CFDA No 84.031S]

Developing Hispanic Serving Institutions Program

AGENCY: Department of Education.

Notice inviting applications for new awards for fiscal year (FY) 2000.

Purpose of Program: Grants to Hispanic Serving Institutions (HSI) under the Developing Hispanic Serving Institutions Program assist eligible Hispanic Serving institutions of higher education to expand their capacity to serve Hispanic and low-income students by enabling them to improve their academic quality, institutional management, and fiscal stability and to increase their self-sufficiency. Five-year development grants and one-year planning grants are awarded.

Eligible Applicants: Institutions that, at the time of application, have an enrollment of undergraduate full-time equivalent students that is at least 25 percent Hispanic students, and provide assurances that not less than 50 percent of their Hispanic students are low-income individuals.

Special Notes

1. If an institution is the recipient of a grant under the programs authorized under Part A or B of Title III of the Higher Education Act of 1965, as amended(HEA), the institution may not receive a grant under the HSI Program if any part of the grant period for the HSI Program grant would overlap with the grant awarded under Part A or B of Title III. Thus, such an institution may not apply for a grant under the HSI Program in this competition. Further, an institution that is a recipient of a grant under Part A or B may not relinquish that grant in order to apply for a grant under the HSI Program. The programs authorized under Part A of Title III of the HEA include the Strengthening Institutions Program, American Indian Tribally Controlled Colleges and Universities Program, Alaska Native-Serving Institutions Program, and Native Hawaiian-Serving Institutions Program. The programs authorized under Part B of Title III of the HEA include the Strengthening Historically Black Colleges and Universities Program and the Strengthening Historically Black Graduate Institutions Program.

2. An institution that does not fall within the limitation described in paragraph 1 may apply for a grant under both the programs authorized under Title III Part A of the HEA and the HSI Program. However, the institution may receive only one grant under any of those programs. Accordingly, if an institution applies for a grant under more than one program, it should indicate that fact in each application, and should further indicate which grant it wishes to receive if it is selected to receive a grant under more than one program.

3. We have changed the way we collect information for determining the value of endowment funds and total expenditures for library materials. As a result of that change, we do not now have base year data beyond 1996-1997 data. Consequently, in order to award FY 2000 grants in a timely manner, we will use 1996-1997 base year data.

Applications Available: January 25, 2000.

Deadline for Transmittal of Applications: March 10, 2000.

Deadline for Intergovernmental Review: May 10, 2000.

Methods for Submission of Grant Applications: We will accept applications in two formats, a paper application and a diskette application. You must submit one original (hard copy with signatures) and two diskettes. Each diskette must contain a copy of the entire application for the FY 2000 grant competition, excluding the following forms (which should be included with the hard copy only): the Application for Federal Education Assistance Form (ED 424), HSI Certification Form (ED 851S-7), the Assurances and Certification Forms and the Endowment Fund Assurance Form (ED 851S-8). The hard copy and the two diskettes must be postmarked on or before the closing date of the competition.

Under both formats we have established mandatory page limits. Reviewers will be instructed not to read applications beyond the stated page limits. If, to meet the page limit, you use a larger page or you use a print size, spacing, or margins smaller than the standards in this notice, we will reject your application. For this purpose, an application narrative includes the institutional narrative, the comprehensive development plan, activity narratives, and the project management narrative.

• The narrative of a development grant application may not exceed 60 pages. Additionally, essential appendices may be attached but may not exceed 5 pages each.

• The narrative of a cooperative arrangement grant application may not exceed 120 pages. Additionally, essential appendices may be attached but may not exceed 10 pages each.

• The narrative of a planning grant application may not exceed 20 pages. Additionally, essential appendices may be attached but may not exceed 5 pages each.

The cover page (ED Form 424 and the tiebreaker information page on the back of ED Form 424) and all certificates and assurances must accompany the original application and are not included within the page limits.

1. A ‘page’ is 8.5” x 11”, on one side only, with 1” margins top, bottom, right and left.

2. You must double-space all text in the application narrative, including titles, headings, footnotes, quotations, references, and captions. However, you may single space charts, forms, tables, figures or graphs.

Electronic Field Readings: During FY 2000, all grant applications under the HSI Program will be reviewed by readers from a secure website. The reviewers will provide comments and award points online. Reviewers will have the opportunity to discuss any significant point differences in a virtual chat room environment.

Note: Some of the procedures in these instructions for transmitting applications differ from those in 34 CFR 75.102. Under 5 U.S.C. 553, the Department generally offers interested parties the opportunity to comment on proposed regulations. However, these amendments make procedural changes only and do not establish new substantive policy. Therefore, under 5 U.S.C. 553(b)(A), the Secretary has determined that proposed rulemaking is not required.

Available Funds: Total estimated funding available is $42,500,000 for FY 2000. Approximately $16,500,000 will support 39 continuing grants. Approximately $26,000,000 will be available for the new grant competition.

Estimated Range of Awards:

Development Grants: $350,000-$400,000 per year.

Planning Grants: $30,000—$35,000 for one year.

Estimated Average Size of Awards:

Development Grant: $375,000 per year.

Planning Grant: $32,500 for one year.

Estimated Number of Awards:

Development Awards: 65.

Planning Grant Awards: 10.

Project Period:

60 months for development grants.

12 months for planning grants.

Note: The Department is not bound by any estimates in this notice.

Statutory Priorities

Under Section 511(d) of the HEA, we give priority to applications that contain satisfactory evidence that the Hispanic Serving institution has entered into or will enter into a collaborative arrangement with at least one local educational agency or community-based organization to provide that agency or organization with assistance (from funds other than funds provided under Title V of the HEA) in reducing dropout rates for Hispanic students, improving rates of academic achievement for Hispanic students, and increasing the rates at which Hispanic secondary school graduates enroll in higher education. We anticipate that we will fund under this competition only applications that meet this priority.

As described under Section 514(b) of the HEA, we give priority to grants for cooperative arrangements that are geographically and economically sound or will benefit the applicant Hispanic Serving Institution. We anticipate that we will fund only those applications that meet this priority under this competition.

Special Funding Consideration

In tie-breaking situations described in 34 CFR 606.23 of the HSI Program regulations, we award one additional point to an application from an institution that has an endowment fund for which the market value in 1996-97, per full-time equivalent (FTE) student, was less than the average per FTE student at similar type institutions; and one additional point to an application from an institution that had expenditures for library materials in 1996-97, per FTE student, that were less than the average per FTE student at similar type institutions.

For the purpose of these funding considerations, an applicant must be able to demonstrate that the market value of its endowment fund per FTE student, or expenditures for library per FTE student, were less than the following approximated national averages for year 1996-97.

| Average market value of endowment fund per FTE student | Average Library expenditures for materials per FTE student
Two-year public institutions | $1,332 | $45
Two-year nonprofit private institutions | 11,567 | 121
Four-year public institutions | 2,829 | 165
Four-year nonprofit private institution | 42,579 | 254

If a tie still remains after applying the additional points, we determine that an institution will receive an award according to a combined ranking of two-year and four-year institutions. This ranking is established by combining library expenditures and endowment values per FTE student. The institutions with the lowest combined library expenditures per FTE student and endowment values per FTE student are ranked higher in strict numerical order.

Applicable Regulations

(a) The Department of Education General Administrative Regulations (EDGAR) in 34 CFR Parts 74, 75, 77, 79, 82, 85, 86, 97, 98, and 99; and (b) the regulations for the HSI Program in 34 CFR Part 606. The HSI final regulations, 34 CFR part 606, were published in the Federal Register on December 15, 1999,64 FR 70146-70155.

For Applications or Information Contact: Jessie DeAro, Title V-Developing Hispanic Serving Institutions Program, U.S. Department of Education, Office of Postsecondary Education, Higher Education Programs, 1990 K Street N.W., 6th floor, Washington DC 20006-8501. Telephone (202) 502-7562. The email address for Jessie DeAro is jessie_dearo@ed.gov.

Individuals who use a telecommunications device for the deaf (TDD) may call the Federal Information Relay Service (FIRS) at 1-800-877-8339.

Individuals with disabilities may obtain this document in an alternate format (e.g., Braille, large print, audiotape, or computer diskette) on request to the contact person specified in the preceding paragraph. Individuals with disabilities may obtain a copy of the application package in an alternate format, also, by contacting that person. However, the Department is not able to reproduce in an alternate format the standard forms included in the application package.

Electronic Access to This Document

You may view this document, as well as all other Department of Education documents published in the Federal Register, in text or Adobe Portable Document Format (PDF) on the Internet at the following sites:

http://www.ed.gov/news.html

http://ocfo.ed.gov/fedreg.htm

To use the PDF you must have the Adobe Acrobat Reader Program with Search, which is available free at the previously mentioned web sites. If you have any questions about using the PDF, call the U.S. Government Printing Office (GPO) toll free, at 1-888-293-6498; or in the Washington, DC area at (202) 512-1530.

Note: The official version of a document is the document Published in the Federal Register. Free Internet access to the official edition of the Federal Register and the Code of Federal Regulations is available on GPO Access at: http://www.access.gpo.gov/nara/index.html.

Program Authority: 20 USC 1059c.

Dated: January 19, 2000.
A. Lee Fritschler,
Assistant Secretary Office of Postsecondary Education.

[FR Doc. 00-1725 Filed 1-24-00; 8:45 am]

BILLING CODE 4000-01-P